DEPARTMENT OF HEALTH AND HUMAN SERVICES

Food and Drug Administration

[Docket No. FDA-2011-N-0110]

Extension of Memorandum of Understanding Between the Food and Drug Administration and Servicio Nacional de Sanidad, Inocuidad y Calidad Agroalimentaria of the United Mexican States Concerning Entry of Mexican Cantaloupes Into the United States of America

AGENCY: Food and Drug Administration, HHS.

ACTION: Notice.

SUMMARY: The Food and Drug Administration (FDA) is providing notice of an extension of memorandum of understanding (MOU) between FDA and Servicio Nacional de Sanidad, Inocuidad y Calidad Agroalimentaria of the United Mexican States. The purpose of the MOU is to establish, and build confidence in, a system that increases the likelihood that cantaloupes from Mexico offered for import into the United States comply with U.S. law. This MOU also establishes a risk-based classification system for firms in Mexico producing cantaloupes for import into the United States to protect the public health.

DATES: The agreement became effective on October 26, 2005, amended on April 19, 2007, and extended on October 28, 2010, for 1 year.

FOR FURTHER INFORMATION CONTACT: Naomi Kawin, Office of Global Engagement, Office of International Programs, Food and Drug Administration, 10903 New Hampshire Ave., Bldg. 31, rm. 3416, Silver Spring, MD 20993-0002, 301-796-8372, FAX: 301-595-7941.

SUPPLEMENTARY INFORMATION: In accordance with 21 CFR 20.108(c), which states that all written agreements and MOUs between FDA and others shall be published in the Federal Register, the Agency is publishing notice of this MOU.

Dated: March 9, 2011.
Leslie Kux,
Acting Assistant Commissioner for Policy.

BILLING CODE 4160-01-P

[FR Doc. 2011-5944 Filed 3-14-11; 8:45 am]

BILLING CODE 4160-01-C